DEPARTMENT OF HEALTH AND HUMAN SERVICES

National Institutes of Health

National Institute of Mental Health; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Mental Health Special Emphasis Panel.

Date: March 14, 2001.

Time: 8:30 a.m. to 5:30 p.m.

Agenda: To review and evaluate grant applications.

Place: Woodfin Suites Hotel, Conference Room, 1380 Piccard Drive, Rockville, MD 20850.

Contact Person: Richard E. Weise, PhD, Scientific Review Administrator, National Institute of Mental Health, NIH, 6001 Executive Boulevard, Room 6206, MSC 9619, Bethesda, MD 20892-9619, 301-443-7281.

Name of Committee: National Institute of Mental Health Special Emphasis Panel.

Date: March 19, 2001.

Time: 8:30 a.m. to 5:30 p.m.

Agenda: To review and evaluate grant applications.

Place: Holiday Inn Bethesda, 8120 Wisconsin Ave, Bethesda, MD 20814.

Contact Person: Richard E. Weise, PhD, Scientific Review Administrator, National Institute of Mental Health, NIH, 6001 Executive Boulevard, Room 6206, MSC 9619, Bethesda, MD 20892-9619, 301-443-7281.

Name of Committee: National Institutue of Mental Health Special Emphasis Panel.

Date: March 20, 2001.

Time: 11:00 a.m. to 1:00 p.m.

Agenda: To review and evaluate grant applications.

Place: Neuroscience Center, National Institutes of Health, 6001 Executive Blvd., Bethesda, MD 20892 (Telephone Conference Call).

Contact Person: Michael J. Kozak, PhD, Scientific Review Administrator, Division of Extramural Activities, National Institute of Mental Health, NIH, Neuroscience Center, 6001 Executive Blvd., Room 6138, MSC 9606, Bethesda, MD 20892-9606 301-443-1340.

Name of Committee: National Institute of Mental Health Special Emphasis Panel.

Date: March 21, 2001.

Time: 8 am to 5 pm.

Agenda: To review and evaluate grant applications.

Place: Holiday Inn Bethesda, 8210 Wisconsin Ave, Bethesda, MD 20814.

Contact Person: Houmam H Araj, PhD, Scientific Review Administrator, Division of Extramural Activities, National Institute of Mental Health, NIH, Neuroscience Center, 6001 Executive Blvd., Room 6150, MSC 9608, Bethesda, Md 20892-9608, 301-443-1340.

Name of Committee: National Institute of Mental Health Special Emphasis Panel.

Date: March 29, 2001.

Time: 11 a.m. to 1:30 p.m

Agenda: To review an evaluate grant applications.

Place: Neuroscience Center, National Institutes of Health, 6001 Executive Blvd., Bethesda, MD 20892 (Telephone Conference Call).

Contact Person: Michael J. Kozak, PhD, Scientific Review Administrator, Division of Extramural Activities, National Institute of Mental Health, NIH, Neuroscience Center, 6001 Executive Blvd., Room 6138, MSC 9606, Bethesda, Md 20892-9606, 301-443-1340.

Name of Committee: National Institute of Mental Health Special Emphasis Panel.

Date: April 6, 2001.

Time: 9 a.m. to 1 p.m.

Agenda: To review and evaluate grant applications.

Place: Holiday Inn Bethesda, 8120 Wisconsin Avenue, Bethesda, MD 20814.

Contact Person: Richard E. Weise, PhD, Scientific Review Administrator, National Institute of Mental Health, NIH, 6001 Executive Boulevard, Room 6206, MSC 9619, Bethesda, MD 20892-9619, 301-443-7281.

(Catalogue of Federal Domestic Assistance Program Nos. 93.242, Mental Health Research Grants; 93.281, Scientist Development Award, Scientist Development Award for Clinicians, and Research Scientist Award; 93.282, Mental Health National Research Service Awards for Research Training, National Institutes of Health, HHS)
Dated: February 13, 2001.
LaVerne Y. Stringfield,
Director, Office of Federal Advisory Committee Policy.

[FR Doc. 01-4463 Filed 2-22-01; 8:45 am]

BILLING CODE 4140-01-M